DEPARTMENT OF ENERGY

Federal Energy Regulatory Commission

[Docket No. CP04-12-000]

TransColorado Gas Transmission Company; Notice of Availability of the Environmental Assessment for the Proposed Compression Expansion Project

January 29, 2004.

The staff of the Federal Energy Regulatory Commission (FERC or Commission) has prepared an environmental assessment (EA) on the natural gas pipeline facilities proposed by TransColorado Gas Transmission Company (TransColorado) in the above-referenced docket.

The EA was prepared to satisfy the requirements of the National Environmental Policy Act. The staff concludes that approval of the proposed project (“Compression Expansion Project”), with appropriate mitigating measures as recommended, would not constitute a major Federal action significantly affecting the quality of the human environment. The EA evaluates alternatives to the proposal, including the no-action alternative, system alternatives, and site alternatives.

The EA assesses the potential environmental effects of the construction and operation of the proposed facilities in Colorado. The purpose of the Compression Expansion Project is to enable TransColorado to increase transportation capacity on its system by 125,000 dekatherms per day. Specifically, TransColorado would:

• Construct a new compressor station (Whitewater) in Mesa County and install one 4,735-horsepower (hp) compressor;

• Re-wheel a compressor at the existing Olathe Compressor Station in Montrose County, with no change in horsepower;

• Construct a new compressor station (Redvale) and 692 feet of 10-inch-diameter pipeline (Redvale Pipeline) in Montrose County, and install one 4,735-hp compressor;

• Install one 3,550-hp compressor at the existing Dolores Compressor Station in Dolores County;

• Construct a new compressor station (Mancos) in Montezuma County and install two 3,550-hp compressors; and

• Construct, modify, and operate certain ancillary facilities entirely within the above-identified compressor stations.

The EA has been placed in the public files of the FERC. A limited number of copies of the EA are available for distribution and public inspection at: Federal Energy Regulatory Commission, Public Reference and Files Maintenance Branch, 888 First Street, NE., Room 2A, Washington, DC 20426, (202) 502-8371.

Copies of the EA have been mailed to Federal, State, and local agencies; public interest groups; interested individuals; newspapers; libraries; and parties to this proceeding.

Any person wishing to comment on the EA may do so. To ensure consideration prior to a Commission decision on the proposal, it is important that we receive your comments before the date specified below. Please follow these instructions carefully to ensure that your comments are received in time and properly recorded:

• Send an original and two copies of your comments to: Magalie R. Salas, Secretary, Federal Energy Regulatory Commission, 888 First Street, NE., Room 1A, Washington, DC 20426;

• Label one copy of the comments for the attention of Gas Branch 1, PJ-11.1;

• Reference Docket No. CP04-12-000; and

• Mail your comments so that they will be received in Washington, DC, on or before March 5, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line by clicking on “Sign-up.”

Comments will be considered by the Commission but will not serve to make the commentor a party to the proceeding. Any person seeking to be a party to the proceeding must file a motion to intervene pursuant to Rule 214 of the Commission's Rules of Practice and Procedures (18 CFR 385.214) ¹. Only intervenors have the right to seek rehearing of the Commission's decision.

¹ Interventions may also be filed.

Affected landowners and parties with environmental concerns may be granted intervenor status upon showing good cause by stating that they have a clear and direct interest in this proceeding which would not be adequately represented by any other parties. You do not need intervenor status to have your comments considered.

Additional information about the proposed project is available from the Commission's Office of External Affairs, at 1-866-208-FERC (1-866-208-3372) or on the FERC Internet Web site (www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERCOnlineSupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notifications of these filings, document summaries, and direct links to the documents. Go to https://ferconline.ferc.gov/, click on “eSubscription” and then click on “Sign-up.”

Magalie R. Salas,
Secretary.

[FR Doc. E4-193 Filed 2-4-04; 8:45 am]

BILLING CODE 6717-01-P